DEPARTMENT OF ENERGY

Federal Energy Regulatory Commission

[Project No. 2315-178]

Dominion Energy South Carolina, Inc.; Notice of Intent To Prepare an Environmental Assessment

On November 25, 2025, Dominion Energy South Carolina, Inc. (DESC) filed a revised application for a non-capacity amendment of the license for the Neal Shoals Hydroelectric Project No. 2315. DESC initially filed the request to amend its license on May 24, 2024; however, on April 15, 2025, DESC requested to place the amendment application in abeyance. On April 12, 2025, Commission staff granted the abeyance. On June 20, 2025, DESC requested a 6-month extension of the abeyance, which Commission staff granted on July 1, 2025. The project is located on the Broad River in South Carolina and occupies federal lands administered by the Sumter National Forest.

The licensee's proposal to replace the four existing turbines in the powerhouse with eight submersible turbine-generator units to be installed at the existing draft tube openings and construct a new substation and underground duct bank at the project remains the same in the revised amendment application. As with the initial proposal, the licensee proposes to decouple the existing generators, which would no longer be needed, and decommission and abandon them in place. The licensee expects the project's generating capacity to increase from 4.4 MW to 5.76 MW (rather than 5.6 MW, as initially proposed) while the hydraulic capacity would remain the same at 3,500 cfs (rather than a reduction in hydraulic capacity to 3,160 cfs, as initially proposed).

On September 30, 2024, the Commission issued a public notice for the initial amendment application. On October 30, 2024, the South Caronia Department of Natural Resources filed comments on the proposal. DESC filed a response to comments on November 8, 2024. Given the substantial similarity between the initial and revised amendment applications, the Commission will not issue a new public notice for the revised amendment application.

This notice identifies Commission staff's intention to prepare an environmental assessment (EA) for the project.¹ Commission staff plans to issue an EA by February 6, 2026. Revisions to the schedule may be made as appropriate. The EA will be issued for a 30-day comment period. All comments filed on the EA will be reviewed by staff and considered in the Commission's final decision on the proceeding.

¹ The unique identification number for documents relating to this environmental review is EAXX-019-20-000-1732197559.

For public inquiries and assistance with making filings such as interventions, comments, or requests for rehearing, contact the Office of Public Participation at (202) 502-6595 or OPP@ferc.gov.

Any questions regarding this notice may be directed to Elizabeth Moats at 202-502-6632 or Elizabeth.OsierMoats@ferc.gov.

(Authority: 18 CFR 2.1)

Dated: January 8, 2026.
Carlos D. Clay,
Deputy Secretary.

[FR Doc. 2026-00473 Filed 1-12-26; 8:45 am]

BILLING CODE 6717-01-P